ENVIRONMENTAL PROTECTION AGENCY

40 CFR Part 52

[EPA-R01-OAR-2015-0306; A-1-FRL-9949-31-Region 1]

Air Plan Approval; Rhode Island; Correction, Administrative and Miscellaneous Revisions

AGENCY: Environmental Protection Agency.

ACTION: Proposed rule.

SUMMARY: The Environmental Protection Agency (EPA) is proposing to approve a State Implementation Plan (SIP) revision submitted by the State of Rhode Island. This SIP revision includes fifteen revised Rhode Island Air Pollution Control Regulations. These regulations have been previously approved into the Rhode Island SIP and the revisions to these regulations are mainly administrative in nature, but also include technical corrections and a few substantive changes to several of the rules. In addition, EPA is proposing a correction to the Rhode Island SIP to remove Rhode Island's odor regulation because it was previously erroneously approved into the SIP. The intended effect of this action is to propose to approve Rhode Island's fifteen revised regulations into the Rhode Island SIP and correct the Rhode Island SIP by removing Rhode Island's odor regulation. This action is being taken in accordance with the Clean Air Act.

DATES: Written comments must be received on or before August 22, 2016.

ADDRESSES: Submit your comments, identified by Docket ID No. EPA-R01-OAR-2015-0306 at http://www.regulations.gov, or via email to mcdonnell.ida@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: Susan Lancey, Air Permits, Toxics and Indoor Programs Unit, Office of Ecosystem Protection, 5 Post Office Square—Suite 100, (Mail code OEP05-2), Boston, MA 02109-3912, telephone 617-918-1656, fax 617-918-0656, email lancey.susan@epa.gov.

SUPPLEMENTARY INFORMATION: In the Rules and Regulations section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of the rule and if that provision may be severed from the remainder of the rule, EPA may adopt as final those provisions of the rule that are not the subject of an adverse comment.

For additional information, see the direct final rule which is located in the Rules and Regulations section of this Federal Register.

Dated: July 5, 2016.
H. Curtis Spalding,
Regional Administrator, EPA New England.

[FR Doc. 2016-17183 Filed 7-21-16; 8:45 am]

BILLING CODE 6560-50-P